DEPARTMENT OF AGRICULTURE

Commodity Credit Corporation

7 CFR Part 1464

RIN 0560-AG13

1999 Crop and Market Loss Assistance

AGENCIES: Commodity Credit Corporation; USDA.

ACTION: Final rule; correction.

SUMMARY: The Commodity Credit Corporation published in the Federal Register of February 16, 2000, a final rule promulgating regulations for Crop and Market Loss programs. Inadvertently, a reference to eligibility for tobacco loss assistance for tobacco growers on a farm used to produce tobacco during the 1998 crop year was omitted. This document corrects that omission.

EFFECTIVE DATE: February 11, 2000.

FOR FURTHER INFORMATION CONTACT: Tom Witzig, Chief, Regulatory Review and Foreign Investment Disclosure Branch, FSA, USDA, STOP 0540, 1400 Independence Avenue, SW, Washington, D.C. 20250-0540, Telephone: (202) 205-5851.

SUPPLEMENTARY INFORMATION: The Commodity Credit Corporation published in the Federal Register of February 16, 2000, (65 FR 7960) a final rule promulgating regulations for Crop and Market Loss programs. The provisions of that rule related to Tobacco Loss Assistance at 7 CFR 1464 stated, in addition to other eligibility requirements, that for a person to be considered an eligible tobacco grower such person must own, operate, or produce tobacco on a farm that was used for the production of tobacco during the 1999 crop year. Eligibility for farms that produced tobacco in the 1998 crop year was inadvertently omitted. This correction provides that farms used for the production of tobacco during the 1998 crop year will be included in the eligibility requirements.

In rule FR Doc. 00-3406, published on February 16, 2000, (65 FR 7942) make the following correction. On page 7960, in the second column, in § 1464.203(b)(2), add the phrase “1998 or” before the phrase “1999 crop year”.

Signed at Washington, DC, on February 25, 2000.
Keith Kelly,
Executive Vice President, Commodity Credit Corporation.

[FR Doc. 00-5033 Filed 2-28-00; 12:46 pm]

BILLING CODE 3410-05-P